DEPARTMENT OF ENERGY

Federal Energy Regulatory Commission

Combined Notice of Filings #1

Take notice that the Commission received the following electric corporate filings:

Docket Numbers: EC22-26-000.

Applicants: Liberty Utilities Co., Kentucky Power Company, AEP Kentucky Transmission Company, Inc.

Description: Informational Report of new and existing rate schedules, tariffs, and service agreements related to a proposed transaction of Liberty Utilities Co., Kentucky Power Co.

Filed Date: 9/30/22.

Accession Number: 20220930-5458.

Comment Date: 5 p.m. ET 10/21/22.

Docket Numbers: EC23-2-000.

Applicants: Starwood Energy Group Global, L.L.C.

Description: Application for Authorization Under Section 203 of the Federal Power Act of Starwood Energy Group Global, L.L.C.

Filed Date: 10/4/22.

Accession Number: 20221004-5202.

Comment Date: 5 p.m. ET 10/25/22.

Take notice that the Commission received the following electric rate filings:

Docket Numbers: ER15-957-002; ER11-3634-009.

Applicants: KES Kingsburg, L.P., AltaGas Ripon Energy Inc.

Description: Triennial Market Power Analysis and Notice of Change of Status for Northwest Region of AltaGas Ripon Energy Inc., et al.

Filed Date: 10/3/22.

Accession Number: 20221003-5356.

Comment Date: 5 p.m. ET 10/24/22.

Docket Numbers: ER23-16-000.

Applicants: ISO New England Inc., The Narragansett Electric Company.

Description: § 205(d) Rate Filing: ISO New England Inc. submits tariff filing per 35.13(a)(2)(iii: Addition of Schedule 21-RIE and Amendment of Attachment E to the ISO-NE Tariff to be effective 1/1/2023.

Filed Date: 10/4/22.

Accession Number: 20221004-5184.

Comment Date: 5 p.m. ET 10/25/22.

Docket Numbers: ER23-17-000.

Applicants: Southwest Power Pool, Inc.

Description: § 205(d) Rate Filing: 4019 Southwestern Power Admin & GRDA Interconnection Agr to be effective 10/1/2022.

Filed Date: 10/5/22.

Accession Number: 20221005-5040.

Comment Date: 5 p.m. ET 10/26/22.

Docket Numbers: ER23-18-000.

Applicants: Southwest Power Pool, Inc.

Description: § 205(d) Rate Filing: 3910R1 AEP & Southwestern Addendum 1 to Attachment AO to be effective 12/31/9998.

Filed Date: 10/5/22.

Accession Number: 20221005-5060.

Comment Date: 5 p.m. ET 10/26/22.

Docket Numbers: ER23-19-000.

Applicants: New York State Electric & Gas Corporation, New York Independent System Operator, Inc.

Description: § 205(d) Rate Filing: New York State Electric & Gas Corporation submits tariff filing per 35.13(a)(2)(iii: Joint 205: SGIA among NYISO, NYSEG, SunEast (SA2696)—contains CEII to be effective 9/21/2022.

Filed Date: 10/5/22.

Accession Number: 20221005-5064.

Comment Date: 5 p.m. ET 10/26/22.

Docket Numbers: ER23-20-000.

Applicants: CMC Steel US LLC.

Description: Tariff Amendment: Cancellation entire tariff to be effective 10/6/2022.

Filed Date: 10/5/22.

Accession Number: 20221005-5086.

Comment Date: 5 p.m. ET 10/26/22.

Docket Numbers: ER23-21-000.

Applicants: PJM Interconnection, L.L.C.

Description: § 205(d) Rate Filing: Original NSA, Service Agreement No. 6663; Queue No. AC1-076/AE2-134 to be effective 9/6/2022.

Filed Date: 10/5/22.

Accession Number: 20221005-5121.

Comment Date: 5 p.m. ET 10/26/22.

Take notice that the Commission received the following electric reliability filings:

Docket Numbers: RR22-2-001.

Applicants: North American Electric Reliability Corporation.

Description: Joint Compliance Filing of North American Electric Reliability Corporation and Northeast Power Coordinating Council, Inc. for Approval of Amendments to the Bylaws of Northeast Power Coordinating Council, Inc.

Filed Date: 10/5/22.

Accession Number: 20221005-5051.

Comment Date: 5 p.m. ET 10/26/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2022.
Debbie-Anne A. Reese,
Deputy Secretary.

[FR Doc. 2022-22118 Filed 10-11-22; 8:45 am]

BILLING CODE 6717-01-P